NUCLEAR REGULATORY COMMISSION

[Docket No. 50-341; NRC-2014-0109]

Fermi 2

AGENCY: Nuclear Regulatory Commission.

ACTION: License renewal application; receipt.

SUMMARY: The U.S. Nuclear Regulatory Commission (NRC) has received an application, from DTE Electric Company, dated April 24, 2014, filed pursuant to the Atomic Energy Act of 1954, as amended, and the NRC's regulations, to renew the operating license for Fermi 2.

ADDRESSES: Please refer to Docket ID NRC-2014-0109 when contacting the NRC about the availability of information regarding this document. You may access publicly-available information related to this action by the following methods:

• Federal Rulemaking Web Site: Go to http://www.regulations.gov and search for Docket ID NRC-2014-0109. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The copy of the license renewal application is available in ADAMS under Accession No. ML14121A554.

• NRC's PDR: You may examine and purchase copies of public documents at the NRC's PDR, Room O1-F21, One White Flint North, 11555 Rockville Pike, Rockville, Maryland 20852.

FOR FURTHER INFORMATION CONTACT: Daneira Meléndez-Colón, Office of Nuclear Reactor Regulation, U.S. Nuclear Regulatory Commission, Washington, DC 20555-0001; telephone: 301-415-3301; email: Daneira.Melendez-Colon@nrc.gov.

SUPPLEMENTARY INFORMATION: The U.S. Nuclear Regulatory Commission (NRC) has received an application, from DTE Electric Company, dated April 24, 2014, filed pursuant to Section 103 of the Atomic Energy Act of 1954, as amended, and Part 54 of Title 10 of the Code of Federal Regulations, to renew the operating licenses for Fermi 2. Renewal of the license would authorize the applicant to operate the facility for an additional 20-year period beyond the period specified in the respective current operating license. The current operating license for Fermi 2 (NPF-43) expires at midnight on March 20, 2025. Fermi 2 is a boiling-water reactor designed by General Electric and is located near Frenchtown Township, Monroe County, MI. The acceptability of the tendered application for docketing, and other matters, including an opportunity to request a hearing, will be the subject of subsequent Federal Register notices.

A copy of the license renewal application for Fermi 2 is also available to local residents near the site at the Ellis Library and Reference Center, 3700 South Custer Road, Monroe, MI 48161.

Dated at Rockville, Maryland, this 5th day of May 2014.
For the Nuclear Regulatory Commission.
John W. Lubinski,
Director, Division of License Renewal, Office of Nuclear Reactor Regulation.

[FR Doc. 2014-10828 Filed 5-9-14; 8:45 am]

BILLING CODE 7590-01-P